DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 8/17/2010 Through 8/27/2010
Firm name | Address | Date accepted for filing | Products
American Standard Circuits, Inc | 475 Industrial Drive, West Chicago, IL 60185 | 08/18/10 | The company is a manufacturer of printed circuit boards for the military, aerospace, industrial, commercial, medical, telecommunications, computer, radar and transportation industries.
Diamond Roltran, LLC | 59 Porter Road, Littleton, MA 01460 | 08/27/10 | The company manufactures roll rings. Roll rings transfer power, data and signals over rotary interfaces. They are custom designed, although there are four basic types: Flexures, couplers, roll blocks and flex wheels.
Manchester Wood, Inc | 180 North Street, Granville, NY 12832-9438 | 08/18/10 | The company produces wooded furniture for the retailing industry including TV tray tables, kitchen gourmet carts and Adirondack style furniture.
McVan, Inc | 35 Frank Mossberg Drive, Attleboro, MA 02703 | 08/23/10 | The company manufactures gold, silver and pewter jewelry and religious products. Their manufacturing process consists of stamping and casting.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: August 27, 2010.
Miriam J. Kearse,
Program Team Lead.

[FR Doc. 2010-22123 Filed 9-2-10; 8:45 am]

BILLING CODE 3510-24-P